DEPARTMENT OF DEFENSE

Department of the Army; Corps of Engineers

Notice of Intent To Prepare a Joint Supplemental Environmental Impact Statement and Environmental Impact Report for the Folsom Dam Modification Project, Approach Channel.

AGENCY: Department of the Army, U.S. Army Corps of Engineers; DoD.

ACTION: Notice of intent.

SUMMARY: The action being taken is the preparation of a joint supplemental environmental impact statement/environmental impact report (EIS/EIR) for the Folsom Dam Modification, Approach Channel Project. The EIS/EIR will be prepared in accordance with the National Environmental Policy Act (NEPA) and the California Environmental Quality Act (CEQA). The U.S. Army Corps of Engineers (USACE) will serve as lead agency for compliance with NEPA, and the State of California Central Valley Flood Protection Board (CVFPB) will serve as lead agency for compliance with CEQA. The Folsom Dam Modification Project, Approach Channel will evaluate alternatives, including a locally preferred plan, for providing dam safety and flood damage reduction at Folsom Dam located downstream from the confluence of the North and South Forks of the American River near the city of Folsom, California.

DATES: Written comments regarding the scope of the environmental analysis should be received by November 4, 2011.

ADDRESSES: Written comments concerning this study and requests to be included on the Folsom Dam Modification Project, Approach Channel mailing list should be submitted to Ms. Nancy Sandburg, U.S. Army Corps of Engineers, Sacramento District, Attn: Planning Division (CESPK-PD-RA), 1325 J Street, Sacramento, California 95814.

FOR FURTHER INFORMATION CONTACT: Ms. Nancy Sandburg via telephone at (916) 557-7134, e-mail: Nancy.H.Sandburg@usace.army.mil or regular mail at (see ADDRESSES).

SUPPLEMENTARY INFORMATION: 1. Proposed Action. USACE is preparing an EIS/EIR to analyze the environmental impacts associated with a range of alternatives for providing dam safety and flood damage reduction associated with Phase 4 of the action for the Folsom Dam Modification Project, Approach Channel. This project addresses design alternatives for an Approach Channel that is tiered from the 2007 Folsom Dam Safety and Flood Damage Reduction—Joint Federal Project EIS/EIR NEPA analyses to complete construction of a control structure and spillway at Folsom Dam on the American River system.

2. Alternatives. The EIS/EIR will address construction alternatives that are intended to improve dam safety and provide flood risk management within the project area. Alternatives analyzed during the investigation may include, but are not limited to, a combination of one or more of the following design measures to complete the new control structure and spillway: installation of a temporary cofferdam or cutoff walls, construction of a spur dike, blasting to remove bedrock material, dredging, terrestrial deposition of dredge material, and temporary modification of existing terrestrial sites for haul routes and staging areas.

3. Scoping Process.

a. A public scoping meeting will be held to present an overview of the Folsom Dam Modification Project, Approach Channel and the EIS/EIR process, and to afford all interested parties with an opportunity to provide comments regarding the scope of analysis and potential alternatives. The public scoping meeting will be held in at the Folsom Community Center at 52 Natoma Street in Folsom, CA on October 20, 2011. Presentation will begin at 6 p.m.

b. Potentially significant issues to be analyzed in depth in the EIS/EIR include project specific and cumulative effects on air quality, water quality, recreation, fisheries, and transportation.

c. USACE is consulting with the State Historic Preservation Officer to comply with the National Historic Preservation Act, and with the U.S. Fish and Wildlife Service and National Marine Fisheries Service to comply with the Endangered Species Act. USACE is also coordinating with the U.S. Fish and Wildlife Service to comply with the Fish and Wildlife Coordination Act.

d. A 45-day public review period will be provided for all interested parties, individuals, and agencies to review and comment on the draft EIS/EIR. All interested parties are encouraged to respond to this notice and provide a current address if they wish to be notified of the draft EIS/EIR circulation.

4. Availability. The draft EIS/EIR is currently scheduled to be available for public review and comment in Spring 2012.

Dated: April 25, 2011.
William J. Leady,
Colonel, U.S. Army, District Commander.

[FR Doc. 2011-22383 Filed 8-31-11; 8:45 am]

BILLING CODE 3720-58-P